POSTAL SERVICE

Board of Governors; Sunshine Act Meeting

DATES AND TIMES: Thursday, May 7, 2020, at 11:00 a.m.; and Friday, May 8, 2020, at 9:00 a.m.

PLACE: Washington, DC, at U.S. Postal Service Headquarters, 475 L'Enfant Plaza SW, in the Benjamin Franklin Room.

STATUS: Thursday, May 7, 2020, at 11:00 a.m.—Closed. Friday, May 8, 2020, at 9:00 a.m.—Open.

MATTERS TO BE CONSIDERED:

Thursday, May 7, 2020, at 11:00 a.m. (Closed)

1. Strategic Issues.

2. Financial and Operational Matters.

3. Administrative Items.

Friday, May 8, 2020, at 9:00 a.m. (Open)

1. Remarks of the Chairman of the Board of Governors.

2. Remarks of the Postmaster General and CEO.

3. Approval of Minutes of Previous Meetings.

4. Committee Reports.

5. Quarterly Financial Report.

6. Quarterly Service Performance Report.

7. Approval of Tentative Agenda for August Meetings.

CONTACT PERSON FOR MORE INFORMATION: Michael J. Elston, Secretary of the Board, U.S. Postal Service, 475 L'Enfant Plaza, SW, Washington, DC 20260-1000. Telephone: (202) 268-4800.

Michael J. Elston,
Secretary.

[FR Doc. 2020-09402 Filed 4-29-20; 11:15 am]

BILLING CODE 7710-12-P